FEDERAL COMMUNICATIONS COMMISSION

[WC Docket No. 06-122; DA 11-400]

Wireline Competition Bureau Releases 2011 Annual Telecommunications Reporting Worksheet (FCC Form 499-A) and Accompanying Instructions

AGENCY: Federal Communications Commission.

ACTION: Notice.

SUMMARY: In this document, the Wireline Competition Bureau released the revised annual Telecommunications Reporting Worksheet (FCC Form 499-A) and accompanying instructions. Filers may now submit their FCC Form 499-A to the Universal Service Administrative Company.

DATES: Filers must submit the FCC Form 499-A reporting 2010 revenues by April 1, 2011.

FOR FURTHER INFORMATION CONTACT: Nicholas Degani, Wireline Competition Bureau, Competition Policy Division, at (202) 418-7400 or via the Internet at nicholas.degani@fcc.gov.

SUPPLEMENTARY INFORMATION: The Bureau revised the Form and instructions to make the process of preparing Form 499-A more user-friendly for filers. Many changes are intended to replace technical language with plain language to aid the filer. These non-substantive revisions include:

(1) Revising the formatting throughout for consistency of presentation and readability. (2) Consolidating the contact information and how-to-file information into single sections. (3) Moving the table used to determine whether a filer is de minimis for universal service purposes to Appendix A and adjusting the factors used therein to estimate whether a filer will be de minimis in 2011. (4) Moving the list of Line 105 categories (describing a filer's principal telecommunications activities) into Appendix B. (5) Noting that email addresses are generally required so that the Commission and the administrators may contact filers electronically. Filers must now use Line 208.1 of the Form to specify a contact email address for ITSP regulatory fee purposes. (6) Reorganizing the sections discussing reporting revenues in Blocks 3 and 4 so that it parallels the steps that filers typically take when filing out the form to report revenues. (7) Consolidating the discussion of specific line revenues for ease of reference. (8) Referring to filers consistently as “filers” rather than as “contributors” or “reporting entities” in some places. (9) Deleting information of historical value but unnecessary for reporting purposes. (10) Updating references to precedent as appropriate to better track the language in relevant Commission precedent.

In compliance with 47 CFR 1.47, 52.17(b), 52.32(b), 54.711(a), and 64.604(c)(5)(iii)(B), attached to this notice is a copy of the FCC Form 499-A for 2011 and the FCC Form 499-A instructions can be found at: http://www.fcc.gov/Forms/Form499-A/499a-2011.pdf.

Federal Communications Commission.
Vickie Robinson,
Deputy Chief, Telecommunications Access Policy Division.

BILLING CODE 6712-01-P

[FR Doc. 2011-9026 Filed 4-13-11; 8:45 am]

BILLING CODE 6712-01-C